SMALL BUSINESS ADMINISTRATION

[License No. 04/04-0330]

Ballast Point Ventures III, L.P.; Notice Seeking Exemption Under Section 312 of the Small Business Investment Act, Conflicts of Interest

Notice is hereby given that Ballast Point Ventures III, L.P., 401 East Jackson Street, Suite 2300, Tampa, FL 33602, a Federal Licensee under the Small Business Investment Act of 1958, as amended (“the Act”), in connection with the financing in a small concern, has sought an exemption under Section 312 of the Act, Section 107.730, Financings which constitute Conflicts of Interest of the Small Business Administration (“SBA”) Rules and Regulations (13 CFR 107.730). Ballast Point Ventures III, L.P. proposes to invest $5 million in YPrime Inc., 263 Great Valley Parkway, Malvern, PA 19355.

The financing is brought within the purview of § 107.730(a)(1) and § 107.730(a)(4) of the Regulations because Ballast Point Ventures II, LP and Ballast Point Ventures EF II, LP (together “BPV II”) and YPrime expect to receive $30 million and $5 million, respectively, from the proposed $52.5 million transaction, including $47.5 million from the lead investor and $5 million from the Licensee. BPV II and YPrime Inc. are Associates to the Licensee. Thus, this transaction constitutes a Conflict of Interest requiring SBA's prior written exemption.

Notice is hereby given that any interested person may submit written comments on this transaction within fifteen days of the date of this publication to the Associate Administrator, Office of Investment and Innovation, U.S. Small Business Administration, 409 Third Street SW, Washington, DC 20416.

A. Joseph Shepard,
Associate Administrator for Office of Investment and Innovation.

[FR Doc. 2018-28313 Filed 12-27-18; 8:45 am]

BILLING CODE 8025-01-P